DEPARTMENT OF THE INTERIOR

Minerals Management Service

30 CFR Part 250

RIN 1010-AC83

Oil and Gas and Sulphur Operations in the Outer Continental Shelf—Procedures for Dealing With Sustained Casing Pressure

AGENCY: Minerals Management Service (MMS), Interior.

ACTION: Extension of comment period for proposed rule.

SUMMARY: This document extends to March 9, 2002, the deadline for submitting comments on the proposed rule that describes procedures for dealing with sustained casing pressure (SCP) in oil and gas wells on the Outer Continental Shelf. The rule will codify these procedures and ensure uniform regulatory practices among MMS regional offices, and will also help ensure that lessees will continue to conduct operations in a safe manner.

DATES: We will consider all comments received by March 9, 2002, and we may not fully consider comments received after March 9, 2002.

ADDRESSES: Mail or hand-carry written comments (three copies) to the Department of the Interior; Minerals Management Service; 381 Elden Street; Mail Stop 4024; Herndon, Virginia 20170-4817; Attention: Rules Processing Team. If you wish to e-mail comments, the e-mail address is: rules.comments@MMS.gov. Reference “AC83 SCP Comments” in your e-mail subject line. Include your name and return address in your e-mail message and mark your message for return receipt.

FOR FURTHER INFORMATION CONTACT: Larry Ake, Engineering and Operations Division, at (703) 787-1559.

SUPPLEMENTARY INFORMATION: MMS was asked to extend the deadline for submitting comments on the proposed regulations revising 30 CFR 250, subpart E to describe procedures for dealing with SCP in oil and gas wells. The request stated that the complexity of the issue and the high cost to the domestic petroleum industry require careful consideration for comprehensive comments.

Public Comments Procedures: Our practice is to make comments, including names and home addresses of respondents, available for public review during regular business hours. Individual respondents may request that we withhold their home address from the rulemaking record, which we will honor to the extent allowable by law. There may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: December 5, 2001.
John V. Mirabella,
Acting Chief, Engineering and Operations Division.

[FR Doc. 02-42 Filed 1-2-02; 8:45 am]

BILLING CODE 4310-MR-W